DEPARTMENT OF COMMERCE

Bureau of Industry and Security

Proposed Information Collection; Comment Request; Special Priorities Assistance

AGENCY: Bureau of Industry and Security.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 17, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Larry Hall, BIS ICB Liaison, (202) 482-4895, Lawrence.Hall@bis.doc.gov.

SUPPLEMENTARY INFORMATION:

I. Abstract

The information collected from defense contractors and suppliers on Form BIS-999, Request for Special Priorities Assistance, is required for the enforcement and administration of special priorities assistance under the Defense Production Act, the Selective Service Act and the Defense Priorities and Allocation System regulation.

Although the DPAS is designed to be largely self-executing, agency assistance may be needed to resolve certain problems. Such problems include assistance in obtaining timely deliveries of items needed to satisfy defense requirements, locating a supplier, resolving production or delivery conflicts between multiple rated orders, verifying the urgency and determining the validity of rated orders, or authorizing the use of the DPAS authority on contracts or purchase orders to obtain items not automatically included under the DPAS. SPA can be provided for any reason in support of the DPAS.

Use of Form BIS-999 serves to structure the information concerning DPAS problems so that it can be presented in writing to the appropriate agency and official for assistance and resolution.

II. Method of Collection

Submitted electronically or on paper.

III. Data

OMB Control Number: 0694-0057.

Form Number(s): BIS-999.

Type of Review: Regular submission (extension of a currently approved collection).

Affected Public: Business or other for-profit organizations.

Estimated Number of Respondents: 1,200.

Estimated Time per Response: 30 minutes.

Estimated Total Annual Burden Hours: 600.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 10, 2013.
Gwellnar Banks,
Management Analyst, Office of the Chief Information Officer.

[FR Doc. 2013-08824 Filed 4-15-13; 8:45 am]

BILLING CODE 3510-33-P